DEPARTMENT OF LABOR

Mine Safety and Health Administration

[OMB Control No. 1219-0009]

Proposed Extension of Information Collection; Training Plans and Records of Training, for Underground Miners and Miners Working at Surface Mines and Surface Areas of Underground Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Training Plans and Records of Training, for Underground Miners and Miners Working at Surface Mines and Surface Areas of Underground Mines.

DATES: All comments must be received on or before December 28, 2020.

ADDRESSES: You may submit comment as follows. Please note that late, untimely filed comments will not be considered.

Electronic Submissions: Submit electronic comments in the following way:

• Federal eRulemaking Portal: https://www.regulations.gov. Follow the instructions for submitting comments for docket number MSHA-2020-0033. Comments submitted electronically, including attachments, to https://www.regulations.gov will be posted to the docket, with no changes. Because your comment will be made public, you are responsible for ensuring that your comment does not include any confidential information that you or a third party may not wish to be posted, such as your or anyone else's Social Security number or confidential business information.

• If you want to submit a comment with confidential information that you do not wish to be made available to the public, submit the comment as a written/paper submission.

Written/Paper Submissions: Submit written/paper submissions in the following way:

• Mail/Hand Delivery: Mail or visit DOL-MSHA, Office of Standards, Regulations, and Variances, 201 12th Street South, Suite 4E401, Arlington, VA 22202-5452.

• MSHA will post your comment as well as any attachments, except for information submitted and marked as confidential, in the docket at https://www.regulations.gov.

FOR FURTHER INFORMATION CONTACT: Roslyn Fontaine, Deputy Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines.

The Mine Act recognizes that education and training is an important element of efforts to make the nation's mines safe. Section 115(a) of the Mine Act states that “each operator of a coal or other mine shall have a health and safety training program which shall be approved by the Secretary.” Title 30 CFR 48.3 and 48.23 require training plans for underground and surface mines, respectively. These standards are intended to ensure that miners will be effectively trained in matters affecting their health and safety, with the ultimate goal of reducing the occurrence of injury and illness in the nation's mines.

Training plans are required to be submitted for approval to the MSHA District Manager for the area in which the mine is located. Plans must contain the following: (1) Company name; (2) mine name; (3) MSHA identification number of the mine; (4) the name and position of the person designated by the operator who is responsible for health and safety training at the mine; (5) a list of MSHA-approved instructors with whom the operator proposes to make arrangements to teach the courses and the courses each instructor is qualified to teach; (6) the location where training will be given for each course; (7) a description of the teaching methods and the course materials which are to be used in training; (8) the approximate number of miners employed at the mine and the maximum number who will attend each session of training; (9) the predicted time or periods of time when regularly scheduled refresher training will be given including the titles of courses to be taught; (10) the total number of instruction hours for each course; and (11) the predicted time and length of each session of training for new task training including a complete list of task assignments, the titles of personnel conducting the training, the outline of training procedures used, and the evaluation procedures used to determine the effectiveness of the training.

Title 30 CFR 48.9 and 48.29 require records of training for underground and surface mines, respectively. Upon completion of each training program, the mine operator certifies on a form approved by the Secretary, MSHA Form 5000-23, Certificate of Training, that the miner has received the specified training in each subject area of the approved health and safety training plan.

The Certificate of Training forms are to be maintained by the operator for a period of 2 years for current employees and for 60 days after termination of a miner's employment, and must be available for inspection at the mine site. In addition, the miner is entitled to a copy of the certificate upon completion of the training and when the miner leaves the operator's employment.

II. Desired Focus of Comments

MSHA is soliciting comments concerning the proposed information collection related to Training Plans and Records of Training, for Underground Miners and Miners Working at Surface Mines and Surface Areas of Underground Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and in DOL-MSHA located at 201 12th Street South, Suite 4E401, Arlington, VA 22202-5452. Questions about the information collection requirements may be directed to the person listed in the FOR FURTHER INFORMATION CONTACT section of this notice from the previous collection of information.

III. Current Actions

This information collection request concerns provisions for Training Plans and Records of Training, for Underground Miners and Miners Working at Surface Mines and Surface Areas of Underground Mines. MSHA has updated the data with respect to the number of respondents, responses, burden hours, and burden costs supporting this information collection request from the previous information collection request.

Type of Review: Extension, without change, of a currently approved collection.

Agency: Mine Safety and Health Administration.

OMB Number: 1219-0009.

Affected Public: Business or other for-profit.

Number of Respondents: 5,828.

Frequency: On occasion.

Number of Responses: 143,145.

Annual Burden Hours: 14,773 hours.

Annual Respondent or Recordkeeper Cost: $468,122.

MSHA Forms: MSHA Form 5000-23, Certificate of Training.

Comments submitted in response to this notice will be summarized in the request for Office of Management and Budget approval of the proposed information collection request; they will become a matter of public record and will be available at https://www.reginfo.gov.

Roslyn B. Fontaine,
Certifying Officer.

[FR Doc. 2020-23899 Filed 10-28-20; 8:45 am]

BILLING CODE 4510-43-P